SMALL BUSINESS ADMINISTRATION

[Declaration of Disaster #3517]

State of Georgia

Fayette County and the contiguous Counties of Clayton, Coweta, Fulton, and Spalding in the State of Georgia, constitute a disaster area due to damages caused by severe storms and flooding that occurred beginning on June 16, 2003 and continuing through June 17, 2003. Applications for loans for physical damage may be filed until the close of business on August 28, 2003 and for economic injury until the close of business on March 29, 2004 at the address listed below or other locally announced locations:

U.S. Small Business Administration, Disaster Area 2 Office, One Baltimore Place, Suite 300, Atlanta, GA 30308.

The interest rates are:

| Percent
For Physical Damage:
Homeowners with Credit Available Elsewhere | 5.625
Homeowners Without Credit Available Elsewhere | 2.812
Businesses with Credit Available Elsewhere | 5.906
Businesses and Non-Profit Organizations Without Credit Available Elsewhere | 2.953
Others (Including Non-Profit Organizations) with Credit Available Elsewhere | 5.500
For Economic Injury:
Businesses and Small Agricultural Cooperatives Without Credit Available Elsewhere | 2.953

The number assigned for physical damages is 351711. For economic injury the number is 9W1400.

(Catalog of Federal Domestic Assistance Program Nos. 59002 and 59008)
Dated: June 27, 2003.
Hector V. Barreto,
Administrator.

[FR Doc. 03-17036 Filed 7-3-03; 8:45 am]

BILLING CODE 8025-01-P